DEPARTMENT OF HOUSING AND URBAN DEVELOPMENT

[Docket No. FR-5683-N-27]

Notice of Submission of Proposed Information Collection to OMB; Public Housing Authority Executive Compensation Information

AGENCY: Office of the Chief Information Officer, HUD.

ACTION: Notice.

SUMMARY: The proposed information collection requirement described below has been submitted to the Office of Management and Budget (OMB) for review, as required by the Paperwork Reduction Act. HUD is soliciting public comments on the subject proposal.

Pursuant to PIH Notice 2011-48, HUD has been collecting information on the compensation provided by public housing authorities (PHAs) to their five most highly compensated employees, similar to the information that nonprofit organizations receiving federal tax exemptions are required to report to the IRS annually. Since PHAs receive significant direct federal funds, such compensation information has been collected by HUD to enhance oversight by HUD and by state and local authorities. After HUD began this information collection, Congress included a provision in its fiscal year 2012 appropriations legislation that placed a specific cap on the use of Section 8 and Section 9 funds to pay the salaries of PHA officials. To obtain information that will help HUD determine PHA compliance with this and future legislation, and to achieve the same overall objectives of the original information collection, HUD is revising the data collection instrument to collect information on base salary, and bonus and incentive compensation, and the extent to which such payments are made with federal funds. Changes include obtaining data on total cash compensation paid for with Section 8 and Section 9 funds. The new elements replace several segments such as “Reportable Compensation from PHA and Related Organizations” and “Contributions to Employee Benefit Plans and Deferred Compensation from the PHA and Related Organizations and “Contributions to Employee Benefit Plans and Deferred Compensation from the PHA and Related Organizations”.

DATES: Comments Due Date: May 1, 2013

ADDRESSES: Interested persons are invited to submit comments regarding this proposal. Comments should refer to the proposal by name and/or OMB approval Number (2577-0272) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that HUD has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Public Housing Authority Executive Compensation Information.

OMB Approval Number: 2577-0272.

Form Numbers: HUD-52725, HUD 52723.

Description of the need for the information and proposed use: Pursuant to PIH Notice 2011-48, HUD has been collecting information on the compensation provided by public housing authorities (PHAs) to their five most highly compensated employees, similar to the information that nonprofit organizations receiving federal tax exemptions are required to report to the IRS annually. Since PHAs receive significant direct federal funds, such compensation information has been collected by HUD to enhance oversight by HUD and by state and local authorities. After HUD began this information collection, Congress included a provision in its fiscal year 2012 appropriations legislation that placed a specific cap on the use of Section 8 and Section 9 funds to pay the salaries of PHA officials. To obtain information that will help HUD determine PHA compliance with this and future legislation, and to achieve the same overall objectives of the original information collection, HUD is revising the data collection instrument to collect information on base salary, and bonus and incentive compensation, and the extent to which such payments are made with federal funds. Changes include obtaining data on total cash compensation paid for with Section 8 and Section 9 funds. The new elements replace several segments such as “Reportable Compensation from PHA and Related Organizations” and “Contributions to Employee Benefit Plans and Deferred Compensation from the PHA and Related Organizations and “Contributions to Employee Benefit Plans and Deferred Compensation from the PHA and Related Organizations”.

| Number of respondents | Annual responses | × | Hours per response | Burden hours
Reporting burden | 4116 | 1 |  | 0.333 | 1,372

Total Estimated Burden Hours: 1,372.

Status: Revision of a currently approved collection.

Authority: Section 3507 of the Paperwork Reduction Act of 1995, 44 U.S.C. 35, as amended.

Dated: March 27, 2013.
Colette Pollard,
Department Reports Management Officer, Office of the Chief Information Officer.

[FR Doc. 2013-07517 Filed 3-29-13; 8:45 am]

BILLING CODE 4210-67-P